DEPARTMENT OF ENERGY

Federal Energy Regulatory Commission

[Docket No. RP03-528-000]

Overthrust Pipeline Company; Notice of Tariff Filing

June 30, 2003.

Take notice that on June 25, 2003, Overthrust Pipeline Company (Overthrust), tendered for filing as part of its FERC Gas Tariff, First Revised Volume No. 1-A, the following tariff sheets, to be effective August 1, 2003:

Tenth Revised Sheet No. 1

Thirteenth Revised Sheet No. 30

Second Revised Sheet No. 78I

Original Sheet No. 78I.01

Overthrust is proposing new tariff provisions that describe specific types of discounts that may be offered to its transportation customers on a non-discriminatory basis so that such discounts will not be considered material deviations from Overthrust's forms of service agreements.

Overthrust states that the discounts will be between Overthrust's maximum and minimum rates under the applicable rate schedules of its tariff. Overthrust asserts that approval of these discount provisions will enhance Overthrust's flexibility to provide a variety of discounts for its shippers without the need and administrative burden of filing individual agreements with the Commission as non-conforming service agreements.

Within the proposed categories of eligible discounts, Overthrust states that it is also seeking authority to provide it and its shippers with the ability to adjust rate components in transportation service agreements under certain circumstances in order to preserve the agreed-upon overall rate, as long as all rate components remain within the applicable minimum and maximum rates.

Overthrust states that a copy of this filing has been served upon its customers and the Public Service Commission of Utah and the Public Service Commission of Wyoming.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: July 7, 2003.

Magalie R. Salas,
Secretary.

[FR Doc. 03-17153 Filed 7-7-03; 8:45 am]

BILLING CODE 6717-01-P